ENVIRONMENTAL PROTECTION AGENCY

[ER-FRL-6639-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 04, 2003 (68 FR 16511).

Final EISs

ERP No. F-FHW-E40791-SC James E. Clyburn Connector Project, Construction of a Two-Lane Rural Roadway Northeast of Orangeburg and Southwest of Sumter, Funding and US Army COE Section 404 Permit Issuance, Calhoun, Sumter and Claredon Counties, SC.

Summary: EPA appreciates the responses to our comments regarding the draft EIS. However, EPA still has environmental concerns regarding wetland and agricultural land impacts, traffic noise and the adequacy of mitigation for these impacts.

ERP No. F-FHW-K40251-CA Butte 70/149/99/191 Highway Improvement Project, Update State Route 149 to Four-Lane Expressway from 70 North of Oroville to Route 99 South of Chico, Funding, Right-of-Way Acquisition, and U.S. Army Section 404 Permit Issuance, Butte County, CA.

Summary: EPA has continuing environmental concerns regarding the potential cumulative impacts to vernal pools and the listed species they support. EPA recommends that FHWA prepare a more thorough cumulative impacts analysis in the future for transportation projects in the Sacramento-Chico corridor.

ERP No. F-FTA-K54026-NV Las Vegas Resort Corridor Transportation Improvements, Funding, City of Las Vegas, Clark County, NV.

Summary: EPA found that the final EIS sufficiently discussed the environmental impacts of the proposed project and incorporated all of EPA's previous recommendations. Consequently, EPA lacks objections to the proposed project.

ERP No. F-MMS-L02028-AK Beaufort Sea Planning Area Multiple Sale 186, 195 and 202 Oil and Gas Lease Sales, Alaska Outer Continental Shelf, Offshore Marine Environment, Beaufort Sea Coastal Plain, and the North Slope Borough of Alaska.

Summary: EPA continues to have environmental objections due to potential impacts to subsistence resources used by environmental justice and Tribal communities. Subsequent EISs addressing oil and gas exploration and development will need to significantly add information and protective measures if these activities affect areas containing subsistence resources.

Amended Notices: EPR No. D-AFS-K65248-CA Rating EC2 North Fork Fire Salvage Project, Harvest Salvage, Merchantable Timber Volume Sale and Sierra National Forest Land and Resource Management Plan, Implementation, Bass Lake Ranger District, Madera County, CA.

Summary: EPA expressed environmental concerns with potential adverse impacts to water quality given the only action alternative does not address consistency with EPA approved water quality standards. EPA also expressed concerns that the DEIS fully evaluated just one action alternative.

Revision of FR Notice Published on 3/28/2003: Correction of ERP Summary Paragraph.

ERP No. D-BIA-k60034-CA Rating EC2 Jamul Indian Village (Tribe) 101 Acre Fee-to-Trust Transfer and Casino Project, Implementation, San Diego County, CA.

Summary: EPA expressed environmental concerns regarding the project's potential impacts to ground water from effluent disposal and how Best Management Practices and mitigation would ensure compliance with EPA approved water quality standards.

Revision of FR Notice Published on 03/28/2003: Correction of ERP Summary Paragraph.

Dated: April 8, 2003.
Joseph C. Montgomery,
Director, NEPA Compliance Division, Office of Federal Activities.

[FR Doc. 03-8948 Filed 4-10-03; 8:45 am]

BILLING CODE 6560-50-P